DEPARTMENT OF THE INTERIOR

Bureau of Land Management

[BLM_NM_FRN_MO#4500179000; NM-106239540]

Public Land Order No. 7940; Placitas Area Withdrawal, New Mexico

AGENCY: Bureau of Land Management, Interior.

ACTION: Public land order.

SUMMARY: This Public Land Order (PLO) withdraws 4,212.98 acres of public lands from location and entry under the United States mining laws, from leasing under the mineral leasing laws, and from disposal of minerals under the Materials Act of 1947, subject to valid existing rights, for 50 years. The purpose of this withdrawal is to protect, preserve, and promote the scenic integrity, cultural importance, recreational values, and wildlife habitat connectivity within the Placitas area.

DATES: This PLO takes effect on April 25, 2024.

FOR FURTHER INFORMATION CONTACT: Jillian Aragon, Bureau of Land Management, New Mexico State Office, 505-564-7722 or jgaragon@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION:

Order

By virtue of the authority vested in the Secretary of the Interior by section 204 of the Federal Land Policy and Management Act of 1976, 43 U.S.C. 1714, it is ordered as follows:

1. Subject to valid existing rights, the following described lands are hereby withdrawn from location and entry under the United States mining laws, from leasing under the mineral leasing laws, and from disposal of minerals under the Materials Act of 1947, for a 50-year term to protect, preserve, and promote the scenic, cultural, recreational, and wildlife habitat connectivity values within the Placitas area.

New Mexico Principal Meridian, New Mexico

San Antonio de las Huertas Grant,

Parcel C.

Town of Tejon Grant,

Tract 40.

T. 13 N., R. 4 E.,

sec. 13, Lots 6 thru 9 and S½;

sec. 14, Lots 12 thru 15, E½SE¼, and SW¼SE¼;

sec. 15, Lot 10;

sec. 22, Lots 6 and 7, and SE¼NE¼;

sec. 23, N½, NE¼SW¼, and SE¼;

sec. 24, N½.

T. 12 N, R. 5 E.,

Tract 39.

T. 13 N., R. 5 E.,

sec. 10, Lots 14 and 15;

sec.11, Lot 9;

sec. 17, Lots 1 thru 4, S½SW¼, and S½SE¼;

sec. 18, Lots 1 thru 7, SE¼SW¼, and S½SE¼;

sec. 19, Lots 1 thru 3, NE¼, and E½NW¼;

sec. 20, E½, E½NW¼, NW¼NW¼, and NE¼SW¼;

sec. 29, Lots 1 thru 4;

sec. 30, SE¼;

sec. 31, NE¼NE¼;

Tract 38.

The areas described aggregate 4,212.98 acres according to the official plats of the surveys of the said lands, on file with the BLM.

2. The withdrawal made by this Order does not alter the applicability of laws governing the use of public lands other than the mining laws, mineral leasing laws, and mineral material laws.

3. This withdrawal will expire 50 years from the effective date of this Order, unless, as a result of a review conducted prior to the expiration date pursuant to section 204(f) of the Federal Land Policy and Management Act of 1976, 43 U.S.C. 1714(f), the Secretary determines that the withdrawal shall be extended.

(Authority: 43 U.S.C. 1714)

Dated: April 18, 2024.
Deb Haaland,
Secretary.

[FR Doc. 2024-08701 Filed 4-24-24; 8:45 am]

BILLING CODE 4331-23-P